DEPARTMENT OF DEFENSE

Defense Logistics Agency

Notice of Solicitation for Cooperative Agreement Applications

AGENCY: Defense Logistics Agency, DOD.

ACTION: Announcement of solicitation for cost sharing cooperation agreement applications.

SUMMARY: The Defense Logistics Agency (DLA) has issued a solicitation for cooperative agreement applications (SCAA) to assist State and local governments and others nonprofit eligible entities in establishing or maintaining procurement technical assistance centers (PTACs) as authorized by 10 U.S.C. chapter 142. These centers help business firms market their products and services to the Department of Defense (DoD), other Federal agencies, and State and/or local government agencies. This solicitation applies to all applications from all eligible entities, including Indian Economic Enterprises and Indian Tribal Organizations. This solicitation will govern the submission of applications for calendar years 2003 through 2007, inclusive. The closing date for the submission of applications is May 6, 2003.

On December 13, 2002, a notice was published in the Federal Register announcing that DLA intended to issue a SCAA and made available a draft SCAA for review and comment. In response to several comments received, DLA subsequently revised the SCAA and issued a second notice that was published in the February 14, 2003, Federal Register which made available the revised SCAA for review and comment. No significant comments were received. Consequently, only minor additional editorial changes have been made to the draft SCAA, which DLA has now issued as a final SCAA.

The final SCAA is available on the Internet Web site: http://www.dla.mil/db/scaa2003.pdf.

Printed copies are not available for distribution.

Eligible entities may only submit an application as outlined in section IV of the SCAA. To submit an application and to receive an award, eligible entities must be registered in the Central Contractor Registration (CCR) and have a Commercial and Government Entity (CAGE) Code. Registration can be accomplished online at http:www.ccr.gov. Upon completion and acceptance of the registration information, the CCR system will provide a CAGE Code.

In order to comply with the electronic portion of the submission, applicants must obtain a log in account and password from DLA. To obtain these, applicants must furnish the Grants Officer written evidence that they meet the criteria of an eligible entity as set forth in paragraph 19 of section II of the SCAA. This information should be mailed or otherwise delivered to: HQ, Defense Logistics Agency, Small & Disadvantaged Business Utilization Office, (DB Room 1127), 8725 John J. Kingman Road, Ft. Belvoir, VA 22060-6221.

FOR FURTHER INFORMATION CONTACT: Ms. Diana Maykowskyj at (703) 767-1656.

Anthony J. Kuders,
Program Manager, DoD Procurement Technical Assistance Program.

[FR Doc. 03-6393 Filed 3-17-03; 8:45 am]

BILLING CODE 3620-01-M